DEPARTMENT OF HEALTH AND HUMAN SERVICES

National Institutes of Health

National Heart, Lung, and Blood Institute; Notice of Meeting

Pursuant to section 10(d) of the Federal Advisory Committee Act, as amended, notice is hereby given of a meeting of the Sleep Disorders Research Advisory Board.

This meeting is open to the public but is being held by virtual/teleconference. No physical meeting location is provided for any interested individuals to listen to and/or participate in the meeting. Any individual interested in listening to the meeting discussions must: access the website https://nih.webex.com/nih/onstage/g.php?MTID=e9a4cbcaac003afd915c2c94a8c787585 and enter Event Password: sdrab or call-in toll number 1-650-479-3208 and enter access code: 625 446 354, for access to the meeting. Individuals require special assistance, should notify the Contact Person listed below in advance of the meeting.

Name of Committee: Sleep Disorders Research Advisory Board.

Date: April 27, 2018.

Time: 2:00 p.m. to 4:00 p.m.

Agenda: Discussion of NIH Sleep Disorders Research Plan Revision.

Place: National Institutes of Health, Two Rockledge Center, Conference Room 10167, 6701 Rockledge Drive, Bethesda, MD 20892 (Virtual Meeting).

Contact Person: Michael J. Twery, Ph.D., Director, National Center on Sleep Disorders Research Division of Lung Diseases, National Heart, Lung, and Blood Institute, National Institutes of Health, 6701 Rockledge Drive, Suite 10042, Bethesda, MD 20892-7952, 301-435-0199, twerym@nhlbi.nih.gov.

This notice is being published less than 15 days prior to the meeting due to the timing limitations of receiving input from committee members prior to presenting the plan to other audiences for comment and meeting a legislative reporting deadline.

(Catalogue of Federal Domestic Assistance Program Nos. 93.233, National Center for Sleep Disorders Research; 93.837, Heart and Vascular Diseases Research; 93.838, Lung Diseases Research; 93.839, Blood Diseases and Resources Research, National Institutes of Health, HHS)

Dated: April 10, 2018.
Michelle D. Trout,
Program Analyst, Office of Federal Advisory Committee Policy.

[FR Doc. 2018-07820 Filed 4-13-18; 8:45 am]

BILLING CODE 4140-01-P